DEPARTMENT OF THE TREASURY

Alcohol and Tobacco Tax and Trade Bureau

[Docket No. TTB-2024-0003]

Proposed Information Collections; Comment Request (No. 93)

AGENCY: Alcohol and Tobacco Tax and Trade Bureau (TTB); Treasury.

ACTION: Notice and request for comments.

SUMMARY: As part of our continuing effort to reduce paperwork and respondent burden, and as required by the Paperwork Reduction Act of 1995, we invite comments on the continuing or proposed information collections listed below in this document.

DATES: We must receive your written comments on or before October 7, 2024.

ADDRESSES: You may send comments on the information collections described in this document using one of these two methods:

• Internet—To submit comments electronically, use the comment form for this document posted on the “Regulations.gov” e-rulemaking website at https://www.regulations.gov within Docket No. TTB-2024-0003.

• Mail—Send comments to the Paperwork Reduction Act Officer, Regulations and Rulings Division, Alcohol and Tobacco Tax and Trade Bureau, 1310 G Street NW, Box 12, Washington, DC 20005.

Please submit separate comments for each specific information collection described in this document. You must reference the information collection's title, form number or recordkeeping requirement number (if any), and OMB control number in your comment.

You may view copies of this document, the relevant TTB forms, and any comments received at https://www.regulations.gov within Docket No. TTB-2024-0003. TTB has posted a link to that docket on its website at https://www.ttb.gov/rrd/information-collection-notices. You also may obtain paper copies of this document, the listed forms, and any comments received by contacting TTB's Paperwork Reduction Act Officer at the addresses or telephone number shown below.

FOR FURTHER INFORMATION CONTACT: Michael Hoover, Regulations and Rulings Division, Alcohol and Tobacco Tax and Trade Bureau, 1310 G Street NW, Box 12, Washington, DC 20005; 202-453-1039, ext. 135; or complete the Regulations and Rulings Division contact form at https://www.ttb.gov/contact-rrd.

SUPPLEMENTARY INFORMATION:

Request for Comments

The Department of the Treasury and its Alcohol and Tobacco Tax and Trade Bureau (TTB), as part of a continuing effort to reduce paperwork and respondent burden, invite the general public and other Federal agencies to comment on the proposed or continuing information collections described below, as required by the Paperwork Reduction Act of 1995 (44 U.S.C. 3501 et seq.).

Comments submitted in response to this document will be included or summarized in our request for Office of Management and Budget (OMB) approval of the relevant information collection. All comments are part of the public record and subject to disclosure. Please do not include any confidential or inappropriate material in your comments.

We invite comments on: (a) Whether an information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

An agency may not conduct or sponsor, and a person is not required to respond to, a collection of information unless the collection of information has a valid OMB control number.

Information Collections Open for Comment

Currently, we are seeking comments on the following forms, letterhead applications or notices, recordkeeping requirements, questionnaires, or surveys:

OMB Control No. 1513-0006

Title: Volatile Fruit-Flavor Concentrate Plants—Applications and Related Records.

TTB Form Number: TTB F 5520.3.

TTB Recordkeeping Number: TTB REC 5520/2.

Abstract: Volatile fruit-flavor concentrates contain alcohol when made by an evaporative process from the mash or juice of a fruit. However, under the Internal Revenue Code (IRC) at 26 U.S.C. 5511, alcohol excise taxes and most other provisions of chapter 51 of the IRC do not apply to such concentrates if the manufacturers file applications, keep records, and meet certain statutory and regulatory requirements. Under that IRC authority, the Alcohol and Tobacco Tax and Trade Bureau (TTB) regulations in 27 CFR part 18 require volatile fruit-flavor concentrate manufacturers to register using form TTB F 5520.3 and file amendments to their registrations using that form or a letterhead application (depending on circumstances). Additionally, concentrate manufacturers are required to maintain a record file of all approved registrations and related supporting documents. TTB uses the collected information to identify concentrate manufacturers and their operations to ensure that the tax provisions of the IRC are appropriately applied.

Current Actions: There are no program changes or adjustments associated with this information collection, and TTB is submitting it for extension purposes only.

Type of Review: Extension of a currently approved collection.

Affected Public: Businesses and other for-profits.

• Number of Respondents: 55.

• Average Responses per Respondent: 1 (one) per year.

• Number of Responses: 55.

• Average per-Response Burden: 2 hours.

• Total Burden: 110 hours.

OMB Control No. 1513-0022

Title: Volatile Fruit-Flavor Concentrate Manufacturers—Annual Report and Usual and Customary Business Records (TTB REC 5520/1).

TTB Form Number: TTB F 5520.2.

TTB Recordkeeping Number: TTB F 5520/1.

Abstract: Volatile fruit-flavor concentrates contain alcohol when made by an evaporative process from the mash or juice of a fruit. However, under the IRC at 26 U.S.C. 5511, alcohol excise taxes and most other provisions of chapter 51 of the IRC do not apply to such concentrates if the manufacturers meet certain statutory and regulatory requirements. Under that IRC authority, the TTB regulations in 27 CFR part 18 require manufacturers of volatile fruit-flavor concentrates to submit an annual summary report, using form TTB F 5520.2 in order to account for all volatile fruit-flavor concentrates produced, removed, or made unfit for beverage use. Such manufacturers compile this report from usual and customary business, which, under the regulations, respondents must retain for 3 years. TTB uses the collected information to ensure that the tax provisions of the IRC are appropriately applied.

Current Actions: There are no program changes or adjustments associated with this information collection, and TTB is submitting it for extension purposes only.

Type of Review: Extension of a currently approved collection.

Affected Public: Businesses or other for-profits.

• Number of Respondents: 55.

• Average Responses per Respondent: 1 (one) per year.

• Number of Responses: 55.

• Average Per-response Burden: 20 minutes.

• Total Burden: 18 hours.

OMB Control No. 1513-0042

Title: Drawback on Distilled Spirits Exported.

TTB Form Number: TTB F 5110.30.

Abstract: Under the IRC at 26 U.S.C. 5062(b), on the exportation of distilled spirits produced, bottled, or packaged in casks or bulk containers in the United States on which Federal excise tax has been paid or determined, and are in bulk containers or in bottles packed in cases or other containers, the bottler or packager of the spirits may file a claim for the drawback (refund) of the tax. Section 5062(b) also authorizes the Secretary to issue regulations governing such export drawback claims, including requirements for notices, bonds, and evidence showing tax payment or determination and export of the spirits in question. The TTB regulations in 27 CFR part 28 require that export drawback claimants use TTB F 5110.30 to submit such claims to TTB. The form collects information regarding the claimant, a description of the distilled spirits exported along with the amount exported, and the amount of drawback claimed. The information collected is used by exporters to obtain drawback of taxes on articles exported, and TTB uses the information on TTB F 5110.30 and its attached documents to verify and substantiate the drawback claim.

Current Actions: There are no program changes associated with this information collection, and TTB is submitting it for extension purposes only. As for adjustments, due to changes in agency estimates, TTB is decreasing the number of annual respondents, responses, and burden hours associated with this collection.

Type of Review: Extension of a currently approved collection.

Affected Public: Businesses and other for-profits.

• Number of Respondents: 20.

• Average Responses per Respondent: 18 per year.

• Number of Responses: 360.

• Average Per-response Burden: 2 hours.

• Total Burden: 720 hours.

OMB Control No. 1513-0043

Title: Application and Permit to Ship Puerto Rican Spirits to the United States Without Payment of Tax.

TTB Form Number: TTB F 5110.31.

Abstract: The IRC at 26 U.S.C. 7652 imposes on Puerto Rican distilled spirits shipped to the United States for consumption or sale a tax equal to the internal revenue (excise) tax imposed in the United States on distilled spirits of domestic manufacture. However, the IRC at 26 U.S.C. 5232 provides that distilled spirits imported or brought into the United States in bulk containers may, under regulations prescribed by the Secretary, be withdrawn from Customs custody and transferred to the bonded premises of a domestic distilled spirits plant without payment of the internal revenue tax imposed on such spirits. The IRC at 26 U.S.C. 5314 also states that spirits may be withdrawn from the bonded premises of a distilled spirits plant in Puerto Rico pursuant to an authorization issued under the laws of Puerto Rico. Under those IRC authorities, TTB has issued regulations in 27 CFR part 26, Liquors and Articles from Puerto Rico and the Virgin Islands, which require respondents to use form TTB F 5110.31 to apply for and receive permission to ship Puerto Rican distilled spirits to the United States without payment of Federal excise tax. The form identifies the specific spirits to be shipped, the amount of spirits shipped and received, and the shipment's consignor in Puerto Rico and consignee in the United States. The collected information is necessary to protect the revenue.

Current Actions: There are no program changes associated with this information collection, and TTB is submitting it for extension purposes only. As for adjustments, due to changes in agency estimates, TTB is increasing the number of responses per respondent and burden hours associated with this collection.

Type of Review: Extension of a currently approved collection.

Affected Public: Businesses or other for-profits.

• Number of Respondents: 10.

• Average Responses per Respondent: 58 per year.

• Number of Responses: 580.

• Average Per-response Burden: 0.75 hour.

• Total Burden: 435 hours.

OMB Control No. 1513-0047

Title: Distilled Spirits Production Records (TTB REC 5110/01) and Monthly Report of Production Operations.

TTB Form Number: TTB F 5110.40.

TTB Recordkeeping Number: TTB REC 5110/01.

Abstract: The IRC at 26 U.S.C. 5001 sets forth, in general, the Federal excise tax rates for distilled spirits produced in or imported into the United States. The IRC at 26 U.S.C. 5207 also requires distilled spirit plant (DSP) proprietors to maintain records of production, storage, denaturation, and processing activities and to submit reports covering those operations, as the Secretary prescribes by regulation. The TTB regulations in 27 CFR part 19 require DSP proprietors to keep records regarding the materials used to produce distilled spirits, the amount of spirits produced, the withdrawal of spirits from the production account, and the production of spirits byproducts. The regulations in part 19 also require these records to be retained for at least three years. In addition, DSP proprietors must submit monthly reports of production operations using TTB F 5110.40. The form collects information about the types and amounts of distilled spirits produced, the amounts of certain types of materials used in the production of the spirits, and the disposition of the spirits. TTB uses the collected information to account for the amount of distilled spirits produced at a DSP and to determine the proprietor's resulting excise tax liability and the amount of bond coverage needed if such coverage is required.

Current Actions: There are no program changes associated with this information collection, and TTB is submitting it for extension purposes only. As for adjustments, due to changes in agency estimates resulting from continued growth in the number of DSPs in the United States, TTB is increasing the number of annual respondents, responses, and burden hours associated with this collection.

Type of Review: Extension of a currently approved collection.

Affected Public: Businesses and other for-profits.

• Number of Respondents: 4,800.

• Average Responses per Respondent: 12 per year.

• Number of Responses: 57,600.

• Average Per-response Burden: 2 hours.

• Total Burden: 115,200 hours.

OMB Control No. 1513-0065

Title: Wholesale Dealers Records of Receipt of Alcohol Beverages, Disposition of Distilled Spirits, and Monthly Summary Reports (TTB REC 5170/2).

TTB Recordkeeping Number: TTB REC 5170/2.

Abstract: The IRC at 26 U.S.C. 5121 requires wholesale dealers in liquors to keep daily records of all distilled spirits received and disposed of, and, at the Secretary's discretion, to submit periodic summaries of those daily records. Section 5121 also requires wholesale dealers in liquors and wholesale dealers in beer to keep daily records of all wine and beer received. In addition, section 5121 authorizes the Secretary to issue regulations regarding the keeping and submission of these records and summary reports by such wholesale dealers. The IRC at 26 U.S.C. 5123 also sets forth retention and inspection requirements for the required wholesale dealer records and reports. Under these IRC authorities, TTB has issued regulations applicable to wholesale dealers, which are contained in 27 CFR part 31. These regulations require wholesale dealers to keep usual and customary business records, such as consignment and purchase invoices, documenting their daily receipt and disposition of distilled spirits and their daily receipt of wine and beer. TTB, at its discretion, also may require a particular wholesale liquor dealer to submit monthly summary reports regarding all distilled spirits received and disposed of on a daily basis. In addition, the TTB regulations require that wholesaler dealers retain the required records and copies of any required monthly summary reports at their place of business, available for inspection, for at least 3 years.

Current Actions: There are no program changes or adjustments associated with this information collection, and TTB is submitting it for extension purposes only.

Type of Review: Extension of a currently approved collection.

Affected Public: Businesses or other for-profits.

• Number of Respondents: 30,400 for recordkeeping; 50 for monthly summary reports.

• Average Responses per Respondent: 1 for recordkeeping; 12 for monthly summary reports.

• Number of Responses: 30,400 for recordkeeping; 600 for monthly summary reports.

• Average Per-response Burden: None for usual and customary recordkeeping; 2 hours for monthly summary reports.

• Total Burden: The keeping of usual and customary business records imposes no burden on respondents per the Office of Management and Budget regulations at 5 CFR 1320.3(b)(2). For monthly summary reports, the estimated total burden is 1,200 hours.

OMB Control No. 1513-0088

Title: Alcohol, Tobacco, and Firearms Related Documents for Tax Returns and Claims (TTB REC 5000/24).

TTB Recordkeeping Number: TTB REC 5000/24.

Abstract: TTB is responsible for the collection of Federal excise taxes imposed on distilled spirits, wine, beer, tobacco products, cigarette papers and tubes, and firearms and ammunition, and also for the collection of special occupational taxes related to tobacco products and cigarette papers and tubes. The IRC (26 U.S.C.) requires that such taxes be collected on the basis of a return, and it requires taxpayers to maintain records that document the information provided on such returns. The IRC also allows for the filing of claims for the abatement, credit, remission, or refund (drawback) of taxes under certain circumstances, and it requires claimants to maintain records to support such claims. TTB uses the collected information maintained in these records to confirm the amount of excise and special occupational taxes rightly due, and to verify respondent computations on tax returns or the correctness of claims for refund or other adjustments to tax liabilities.

Current Actions: There are no program changes or adjustments associated with this information collection, and TTB is submitting it for extension purposes only.

Type of Review: Extension of a currently approved collection.

Affected Public: Businesses or other for-profits.

• Number of Respondents: 67,000.

• Average Responses per Respondent: 8 per year.

• Number of Responses: 536,000.

• Average Per-response Burden: 1 hour.

• Total Burden: 536,000 hours.

OMB Control No. 1513-0094

Title: Federal Firearms and Ammunition Quarterly Excise Tax Return.

TTB Form Number: TTB F 5300.26.

Abstract: The IRC at 26 U.S.C. 4181 imposes a Federal excise tax on the sale of pistols, revolvers, other firearms, and shells and cartridges (ammunition) by manufacturers, producers, and importers of such articles. The IRC, at 26 U.S.C. 6001, 6011, and 6302, also authorizes the Secretary to issue regulations regarding IRC-based taxes, returns and records, including the mode and time for collecting taxes due. Under this authority, the TTB regulations in 27 CFR part 53 require persons who have firearms and/or ammunition excise tax liability to submit a quarterly tax return using form TTB F 5300.26. The information collected on this return is necessary to identify the taxpayer, the amount and type of taxes due, and the amount of payments made. TTB uses the return information to determine whether the taxpayer has paid the correct amount of tax and to take additional action, such as assessment or refund, as necessary.

Current Actions: There are no program changes associated with this information collection, and TTB is submitting it for extension purposes only. As for adjustments, due to changes in agency estimates, TTB is decreasing the estimated number of annual respondents, responses, and burden hours associated with this information collection.

Type of Review: Extension of a currently approved collection.

Affected Public: Businesses and other for-profits.

• Number of Respondents: 635.

• Average Responses per Respondent: 4.

• Number of Responses: 2,540

• Average Per-response Burden: 7 hours.

• Total Burden: 17,780 hours.

OMB Control No. 1513-0130

Title: Report of Removal, Transfer, or Sale of Processed Tobacco.

TTB Form Number: TTB F 5250.2.

Abstract: The IRC at 26 U.S.C. 5722 requires importers and manufacturers of tobacco products, processed tobacco, or cigarette papers and tubes to make reports containing such information, in such form, at such times, and for such periods as the Secretary prescribes by regulation. While processed tobacco is not subject to Federal excise tax under the IRC, tobacco products subject to such taxes may be manufactured using processed tobacco. To protect the revenue by preventing diversion of processed tobacco to illegal, unpermitted tobacco product manufacturers, TTB has issued regulations that require persons holding TTB permits as importers or manufacturers of processed tobacco or tobacco products to report all removals, transfers, or sales of processed tobacco made for export or for shipment to any domestic entity that does not hold such a permit or a permit to operate as an export warehouse proprietor. In general, respondents must report each such shipment by the close of the next business day using form TTB F 5250.2. However, exporters may apply to TTB to report removals made for export using a monthly summary report. TTB F 5250.2 and the monthly summary report require information identifying the TTB permit holder making the processed tobacco shipment, the type and quantity of processed tobacco shipped, the person(s) purchasing (or receiving) and delivering the processed tobacco, and the destination address of the shipment.

Current Actions: There are no program changes associated with this information collection, and TTB is submitting it for extension purposes only. As for adjustments, due to changes in agency estimates, TTB is increasing the estimated number of annual respondents, responses, and burden hours associated with this information collection.

Type of Review: Extension of a currently approved collection.

Affected Public: Businesses and other for-profits.

• Number of Respondents: 32.

• Average Responses per Respondent: 156 per year.

• Number of Responses: 4,992.

• Average Per-response Burden: 0.54 hour.

• Total Burden: 2,696 hours.

OMB Control No. 1513-0132

Title: Generic Clearance for the Collection of Qualitative Feedback on Agency Service Delivery.

Abstract: TTB uses the surveys, focus groups, usability tests, and other information collections approved under this generic clearance to gather timely feedback from its customers and stakeholders regarding its programs and services. TTB analyzes the collected information to help improve its programs and service delivery to ensure that regulated persons and others have effective, efficient, and satisfactory experiences when interacting with the agency.

Current Actions: There are no program changes associated with this information collection, and TTB is submitting it for extension purposes only.

Type of Review: Extension of a currently approved collection.

Affected Public: Businesses and other for-profits.

• Number of Respondents: 25,000.

• Average Responses per Respondent: 1 (one).

• Number of Responses: 25,000.

• Average Per-response Burden: 1 hour.

• Total Burden: 25,000 hours.

OMB Control No. 1513-0135

Title: Specific and Continuing Export Bonds for Distilled Spirits or Wine.

TTB Form Numbers: TTB F 5100.25 and TTB F 5100.30.

Abstract: The IRC at 26 U.S.C. 5175, 5214, and 5362 authorizes exporters (other than proprietors of distilled spirits plants or bonded wine premises) to withdraw distilled spirits and wine without payment of tax for export, use on certain vessels or aircraft, transfer to a foreign trade zone, or transfer to a customs bonded warehouse pending exportation, subject to such regulations as the Secretary prescribes. Under that IRC authority, to protect the revenue and provide exporters with a degree of flexibility based on individual need, the TTB alcohol export regulations in 27 CFR part 28 allow exporters to file either a specific bond using TTB F 5100.25 to cover a single export shipment or a continuing bond using TTB F 5100.30 to cover export shipments made from time to time.

Current Actions: There are no program changes or adjustments associated with this information collection, and TTB is submitting it for extension purposes only.

Type of Review: Extension of a currently approved collection.

Affected Public: Businesses or other for-profits.

• Number of Respondents: 20.

• Average Responses per Respondent: 1 (one) per year.

• Number of Responses: 20.

• Average Per-response Burden: 1 hour.

• Total Burden: 20 hours.

Dated: August 1, 2024.
Amy R. Greenberg,
Deputy Assistant Administrator, Headquarters Operations.

[FR Doc. 2024-17342 Filed 8-5-24; 8:45 am]

BILLING CODE 4810-31-P